DEPARTMENT OF HOUSING AND URBAN DEVELOPMENT

[Docket No. FR-4579-FA-12]

Announcement of Funding Awards for Fiscal Year 2001 Research and Technology Unsolicited Proposals

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2001 Research and Technology unsolicited proposals. The purpose of this document is to announce the names and addresses of the organizations that have been awarded cooperative agreements based on their submission of unsolicited proposals for research funding.

FOR FURTHER INFORMATION CONTACT: Patrick J. Tewey, Director, Budget, Contracts and Program Control Division, Office of Policy Development and Research, Room 8230, 451 7th Street, SW, Washington, DC 20410, telephone (202) 708-1796, extension 4098. To provide service for persons who are hearing-or-speech-impaired, this number may be reached via TTY by dialing the Federal Information Relay Service on 1-800-877-TTY, 1-800-877-8339, or 202-708-1455. (Telephone number, other than “800” TTY numbers are not toll free.)

SUPPLEMENTARY INFORMATION: The VA/HUD and Independent Agencies Appropriation Act of 2001 (Pub. L. 106-377) provided $53,000,000 in Research and Technology funds for contracts, grants and necessary expenses of programs and studies relating to housing and urban problems. A rescission of .22 percent was enacted on December 21, 2000 (Pub. L. 106-554) reducing the amount for Research and Technology funds to $52,883,400. The majority of HUD's Research and Technology funding is awarded through competitive solicitations. The unsolicited proposal is another method used by HUD to fund research and development. An unsolicited proposal is submitted to support an idea, method or approach by individuals and organizations solely on the proposer's initiative. Funding of unsolicted proposals is considered a noncompetitive action. An unsolicited proposal demonstrates a unique and innovative concept or a unique capability of the submitter, offers a concept or service not otherwise available to the Government and does not resemble the substance of a pending competitive action. All unsolicited proposals and the resulting award of cooperative agreements include substantial cost sharing on the part of the submitter/awardee.

The Catalog of Federal Domestic Assistance for this program is 14.506.

In accordance with section 102(a)(4)(C) of the Department of Housing and Urban Development Reform Act of 1989 (103 Stat. 1987, 42 U.S.C. 3545), the Department is publishing details concerning the recipients of funding awards, as follows:

List of FY 2001 Awardees for Cooperatives Agreements

American Planning Association, William R. Klein, 122 South Michigan Avenue, Suite 1600, Chicago, IL 60603-6107, Grant # H-5951CA, “To Modernization State Laws Affecting Planning and the Management of Change—Growing Smart” Phase III, Total Amount $230,000, Date Awarded 06/29/01.

Brown University on Behalf of Campus Compact, Norman J. Hebert, P.O. Box 1975, Providence, RI 02912, Grant # H-21318CA, “Developing Socially And Civicly Engaged Engineers”, Total Amount $33,571, Date Awarded 09/28/01.

Building Works, Inc, Dr. Pieter A. VanderWerf, 675 Massachusetts Avenue, 8th Floor, Cambridge, MA 02139, Grant # H-21311CA, “Reducing the Cost of Combining ICF's and Steel Framing in Residential Construction”, Total Amount $74,505, Date Awarded 06/04/01.

Georgetown University, Mary E. Schmiedel, 37th & O Streets, NW, Washington, DC 20057, Grant # H-21317CA, “A Mid-Term Evaluation of the Effects of the Moving to Opportunity (MTO) Demonstration on Adult and Juvenile Criminal Offending”, Total Amount $15,000, Date Awarded 07/30/01.

Johns Hopkins University, Cheryl-Lee Howard, 3400 N. Charles Street, Baltimore, MD 21218-2688, Grant # H-21302CA, “The Effects of Housing Assistance on Adult Self-Sufficiency”, Total Amount $18,746, Date Awarded 04/09/01.

Manpower Demonstration Research Corporation, Jesus M. Amadeo, 16 East 34th Street, New York, NY 10016-4326, Grant # H-21042CA, “Jobs-Plus Community Revitalization Initiative for Public Housing Families”, Total Amount $1,420,000, Date Awarded 09/28/01.

Manufactured Housing Research Alliance, Richard Boyd, 220 West 93rd Street, 11th Floor, New York NY 10025, Grant # H-21315CA, “Improving Foundation Performance in Sites Exposed to Multihazard Conditions”, Total Amount $200,000, Date Awarded 09/27/01.

Manufactured Housing Research Alliance, Richard Boyd, 220 West 93rd Street, 11th Floor, Grant # H-21316CA, “Manufactured Homes in Hot, Humid Climates: Alternatives for Eliminating Moisture Problems”, Total Amount $110,000, Date Awarded 09/27/01.

Manufactured Housing Research Alliance, Richard Boyd, 220 West 93rd Street, 11th Floor, New York, NY 10025, Grant # H-21353CA, “Accelerating Technology Advances in Manufactured Housing”, Total Amount $501,400, Date Awarded 09/28/01.

Metropolitan Area Research Corporation, Myron W. Orfield, Jr., 1313 Fifth Street, SE, Suite 108, Minneapolis, MN 55414, Grant # H-21171CA, “A Comparative Study of Socioeconomic Disparity In U.S. Metropolitan Regions”, Total Amount $95,500, Date Awarded 11/17/00.

Mortgage Banking Association, Steven Hornburg, 2107 Wilson Boulevard, Suite 450, Arlington, VA 22201-3042, Grant #H-21300CA, “Assessment of Consumer Mortgage Process and Home Search Process”, Total Amount $200,000, Date Awarded 01/12/01.

NAHB Research Center, Liza K. Bowles, 400 Prince George's Boulevard, Upper Marlboro, MD 20772-8731, Grant # H-21313CA, “Tool Base Services: The Source of Technical Information For The Building Industry”, Total Amount $500,000, Date Awarded 06/04/01.

NAHB Research Center, Liza K. Bowles, 400 Prince George's Boulevard, Upper Marlboro, MD 20772-8731, Grant # H-21314CA, “Updated Model Land Development Standards Featuring Green Building and Smart Growth Technologies”, Total Amount $300,000, Date Awarded 09/21/01.

National Bureau of Economic Research, Susan Colligan, 1050 Massachusetts Avenue, Cambridge, MA 02138-5308, Grant # H-21301CA, “Expanding Moving To Opportunity Research”, Total Amount $75,000, Date Awarded 03/07/01.

The Urban Institute, Suzanne Forehand, 2100 M Street, NW, Washington, DC 20037, Grant # H-21352CA, “Neighborhood Effects of the LIHTC Program”, Total Amount $21,086, Date Awarded 09/27/01.

University Consortium for Geographic Information Science, Susan M. Jampoler, 43351 Spinks Ferry Road, Leesburg, VA 20176-5631, Grant # H-21260CA, “Global Urban Quality: An Indicator of Urban Indicators Using Geographic Information Science (GIS)”, Total Amount $100,000, Date Awarded 1/16/01.

W.H. Porter, Inc., William H. Porter, 4240 N. 136th Avenue, Holland, MI 49424, Grant # H-21312CA. “Supersip Panel for Residential Construction”, Total Amount $254,990, Date Awarded 07/19/01.

Dated: January 2, 2002.
Lawrence L. Thompson,
General Deputy Assistant Secretary for Policy Development and Research.

[FR Doc. 02-1523 Filed 1-18-02; 8:45 am]

BILLING CODE 4210-62-P